ENVIRONMENTAL PROTECTION AGENCY

[OPP-2002-0218, FRL-7489-7]

Agency Information Collection Activities; Submission to OMB; Comment Request; EPA ICR No. 0597.08/OMB Control No. 2070-0024; Tolerance Petitions for Pesticides on Food/Feed Crops and New Inert Ingredients

AGENCY: Environmental Protection Agency (EPA).

ACTION: Notice.

SUMMARY: In compliance with the Paperwork Reduction Act (PRA) (44 U.S.C. 3501 et seq.), this document announces that the following Information Collection Request (ICR) has been forwarded to the Office of Management and Budget (OMB) for review and approval: Tolerance Petitions for Pesticides on Food/Feed Crops and New Inert Ingredients; EPA ICR No. 0597.08; OMB Control No. 2070-0024. The ICR, which is abstracted below, describes the nature of the information collection activity and its expected burden and costs.

DATES: Additional comments may be submitted on or before May 30, 2003.

ADDRESSES: Submit your comments, referencing docket ID number OPP-2002-0218, to (1) EPA online using EDOCKET (our preferred method), by e-mail to opp-docket@epa.gov, or by mail to: Public Information and Records Integrity Branch (PIRIB), Office of Pesticide Programs (OPP), Environmental Protection Agency, Mailcode: 7502C, 1200 Pennsylvania Ave., NW., Washington, DC 20460, and (2) OMB at: Office of Information and Regulatory Affairs, Office of Management and Budget (OMB), Attention: Desk Officer for EPA, 725 17th Street, NW., Washington, DC 20503.

FOR FURTHER INFORMATION CONTACT: Nancy Vogel, Field and External Affairs Division (7506C), Office of Pesticide Programs, Environmental Protection Agency, 1200 Pennsylvania Ave., NW., Washington, DC 20460; telephone number: (703) 305-6475; fax number: (703) 305-5884; e-mail address: vogel.nancy@epa.gov.

SUPPLEMENTARY INFORMATION: EPA has submitted the following ICR to OMB for review and approval according to the procedures prescribed in 5 CFR 1320.12. The Federal Register document, required under 5 CFR 1320.8(d), soliciting comments on this collection of information was published on October 31, 2002 (67 FR 66392). EPA received no comments on this ICR during the 60-day comment period.

EPA has established a public docket for this ICR under Docket ID No. OPP-2002-0218, which is available for public viewing at the Public Information and Records Integrity Branch (PIRIB), Rm. 119, Crystal Mall #2, 1921 Jefferson Davis Hwy., Arlington, VA. This docket facility is open from 8:30 a.m. to 4 p.m., Monday through Friday, excluding legal holidays. The docket telephone number is (703) 305-5805. An electronic version of the public docket is available through EPA Dockets (EDOCKET) at http://www.epa.gov/edocket. Use EDOCKET to submit or view public comments, access the index listing of the contents of the public docket, and to access those documents in the public docket that are available electronically. Once in the system, select “search,” then key in the docket ID number identified above.

Any comments related to this ICR should be submitted to EPA and OMB within 30 days of this notice. Please note, EPA's policy is that public comments, whether submitted electronically or in paper, will be made available for public viewing in EDOCKET as EPA receives them and without change, unless the comment contains copyrighted material, CBI, or other information whose public disclosure is restricted by statute. When EPA identifies a comment containing copyrighted material, EPA will provide a reference to that material in the version of the comment that is placed in EDOCKET. The entire printed comment, including the copyrighted material, will be available in the public docket. Although identified as an item in the official docket, information claimed as CBI, or whose disclosure is otherwise restricted by statute, is not included in the official public docket, and will not be available for public viewing in EDOCKET. For further information about the electronic docket, see EPA's Federal Register notice describing the electronic docket at 67 FR 38102 (May 31, 2002), or go to http://www.epa.gov/edocket.

ICR Title: Tolerance Petitions for Pesticides on Food/Feed Crops and New Inert Ingredients (EPA ICR 0597.08, OMB Control No. 2070-0024).

ICR Status: This is a request for extension of an existing approved collection that is currently scheduled to expire on April 30, 2003. EPA is asking OMB to approve this ICR for three years. Under 5 CFR 1320.12(b)(2), the Agency may continue to conduct or sponsor the collection of information while the submission is pending at OMB.

Abstract: This information collection will enable EPA to collect adequate data to support the establishment of pesticide tolerances pursuant to section 408 of the Federal Food, Drug and Cosmetic Act (FFDCA). A pesticide may not be used on food or feed crops unless EPA has established a tolerance for the pesticide residues on that crop, or established an exemption from the requirement to have a tolerance. Responses to this collection are required to obtain tolerances or exemptions from tolerances for pesticides used on food or feed crops, pursuant to section 408 of FFDCA, 21 U.S.C. 346a, as amended by FQPA (Public Law 104-170). Confidential Business Information (CBI) submitted to EPA in response to this information collection is protected from disclosure under FIFRA section 10.

It is EPA's responsibility to ensure that the maximum residue levels likely to be found in or on food/feed crops are safe for human consumption through a careful review and evaluation of residue chemistry and toxicology data. In addition, it must ensure that adequate enforcement of the tolerance can be achieved through the testing of submitted analytical methods. Once the data are deemed adequate to support the findings, EPA will establish the tolerance or grant an exemption from the requirement of a tolerance.

Burden Statement: The annual “respondent” burden for this ICR is estimated to be 258,900 hours. According to the Paperwork Reduction Act, “burden” means the total time, effort, or financial resources expended by persons to generate, maintain, retain, or disclose or provide information to or for a Federal agency. For this collection, it is the time reading the regulations, planning the necessary data collection activities, conducting tests, analyzing data, generating reports and completing other required paperwork, and storing, filing, and maintaining the data. The agency may not conduct or sponsor, and a person is not required to respond to, a collection of information unless it displays a currently valid OMB control number. The OMB control number for this information collection appear at the beginning and the end of this document. In addition OMB control numbers for EPA's regulations, after initial display in the final rule, are listed in 40 CFR part 9.

The following is a summary of the burden estimates taken from the ICR:

Respondents/affected entities: Any person seeking a tolerance action.

Estimated total number of potential respondents: 150.

Frequency of response: As needed.

Estimated total/average number of responses for each respondent: 1.

Estimated total annual burden hours: 258,900.

Estimated total annual burden costs: $23,435,700.

Changes in the ICR Since the Last Approval: The total estimated annual respondent cost for this ICR has increased $1,305,700 (from $22,130,000 to $23,435,700), due mainly to the update in the loaded hourly labor rates used to calculate the costs. This increase is explained more fully in the ICR.

According to the procedures prescribed in 5 CFR 1320.12, EPA has submitted this ICR to OMB for review and approval. Any comments related to the renewal of this ICR should be submitted within 30 days of this notice, as described above.

Dated: April 22, 2003.
Richard T. Westlund,
Acting Director, Collection Strategies Division.

[FR Doc. 03-10654 Filed 4-29-03; 8:45 am]

BILLING CODE 6560-50-P